DEPARTMENT OF ENERGY

Federal Energy Regulatory Commission

[Project No. 13390-000]

Northeast Hydrodevelopment, LLC; Notice of Preliminary Permit Application Accepted for Filing and Soliciting Comments, Motions To Intervene, and Competing Applications

May 4, 2009.

On March 6, 2009, Northeast Hydrodevelopment, LLC filed an application, pursuant to section 4(f) of the Federal Power Act, proposing to study the feasibility of the Bucks Street Dams Hydroelectric Project, to be located on the Suncook River, in Merrimack County, New Hampshire. On March 25, 2009, the applicant filed corrections to their original preliminary permit application for the Buck Street Dams Project.

The proposed Buck Street Dams Project would be located along the Suncook River channel below the existing outlet works at an existing dam owned by the New Hampshire Department of Environmental Services. The existing dams are 198 feet long and 15 feet high and impound the Suncook River.

The proposed project would consist of: (1) Either a new approximately 120-foot-long power canal or dual 7-foot-diameter penstocks located below the existing outlet facilities below East Buck Street Dam; (2) a new powerhouse containing two or three submersible or tubular-type turbine-generators with a total hydraulic capacity of 600 cubic feet per second and a either a total installed generating capacity of 0.394 megawatts; (3) a newly excavated 150-foot-long tailrace; (4) an approximately 200-foot-long transmission line; (5) one foot of new flashboards would be added to West Buck Street Dam; and (6) appurtenant facilities. The Buck street Dams Project would have an estimated average annual generation of 1,750 megawatts-hours (MWh), which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13390) in the docket number field to access the document. For assistance, call toll-free 1-866-208-3372.

Kimberly D. Bose,
Secretary.

[FR Doc. E9-10847 Filed 5-8-09; 8:45 am]

BILLING CODE 6717-01-P